INTERNATIONAL TRADE COMMISSION

[Investigation No. 731-TA-1528 (Final)]

Seamless Refined Copper Pipe and Tube From Vietnam; Cancellation of Hearing for a Final Phase Anti-Dumping Duty Investigation

AGENCY: United States International Trade Commission.

ACTION: Notice.

DATES: June 11, 2021.

FOR FURTHER INFORMATION CONTACT: Jordan Harriman ((202) 205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: Effective February 1, 2021, the Commission published its schedule for the final phase of this investigation (86 FR 10994, February 23, 2021). On June 1, 2021, petitioners American Copper Tube Coalition and its constituent members, and interested party GD Copper USA Inc. (collectively, “domestic producers”), requested that the Commission cancel the hearing for this investigation if no other party requested to appear at the hearing before the June 8, 2021 deadline for such request. On June 8, 2021, petitioners reiterated the proposal to cancel the hearing, and clarified on June 10, 2021 that they were withdrawing any request to participate in a hearing. Counsel indicated a willingness to submit written responses to any Commission questions in lieu of an actual hearing. Consequently, since no party to the investigation has requested a hearing, the public hearing in connection with this investigation, scheduled to begin at 9:30 a.m. on June 15, 2021, is canceled. Parties to this investigation should respond to any written questions posed by the Commission in their posthearing briefs, which are due to be filed on June 22, 2021.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: June 11, 2021.
Katherine Hiner,
Acting Secretary to the Commission.

[FR Doc. 2021-12731 Filed 6-16-21; 8:45 am]

BILLING CODE 7020-02-P